DEPARTMENT OF INTERIOR

Fish and Wildlife Service

[FWS-R8-ES-2008-N0341; 81420-1113-0000-F3]

Proposed Programmatic Safe Harbor Agreement for the California Rangeland Conservation Coalition in Butte, Glenn, Shasta, and Tehama Counties, CA

AGENCY: Fish and Wildlife Service, Interior.

ACTION: Notice of availability; receipt of application.

SUMMARY: This notice advises the public that the California Cattlemen's Association (Applicant) has applied to the U.S. Fish and Wildlife Service (Service) for an Enhancement of Survival permit pursuant to section 10(a)(1)(A) of the Endangered Species Act of 1973, as amended (Act). The permit application includes a proposed Safe Harbor Agreement (Agreement) between the Applicant and the Service for the federally-endangered vernal pool tadpole shrimp (Lepidurus packardi), the threatened vernal pool fairy shrimp (Branchinecta lynchi), the endangered Conservancy fairy shrimp (Branchinecta conservatio), the threatened valley elderberry longhorn beetle (Desmocerus californicus dimorphus), the threatened giant garter snake (Thamnophis gigas), the threatened California red-legged frog (Rana aurora draytonii), the threatened Hoover's spurge (Chamaesyce hooveri), the endangered Butte County meadowfoam (Limnanthes floccosa ssp. californica), the endangered hairy Orcutt grass (Orcuttia pilosa), the threatened slender Orcutt grass (Orcuttia tenuis), and the endangered Greene's tuctoria (Tuctoria greenei) (collectively referred to as the Covered Species). The Agreement is available for public comment.

DATES: Written comments should be received on or before September 28, 2009.

ADDRESSES: Comments should be addressed to Mr. Rick Kuyper, U.S. Fish and Wildlife Service, Sacramento Fish and Wildlife Office, 2800 Cottage Way, W-2605, Sacramento, California 95825. Written comments may also be sent by facsimile to (916) 414-6713.

FOR FURTHER INFORMATION CONTACT: Mr. Rick Kuyper, Sacramento Fish and Wildlife Office (see ADDRESSES); telephone: (916) 414-6600.

SUPPLEMENTARY INFORMATION:

Availability of Documents

You may obtain copies of the document for review by contacting the individual named above. You may also make an appointment to view the document at the above address during normal business hours.

Background

Under a Safe Harbor Agreement, participating landowners voluntarily undertake management activities on their property to enhance, restore, or maintain habitat benefiting species listed under the Act (16 U.S.C. 1531 et seq.). Safe Harbor Agreements, and the subsequent enhancement of survival permits that are issued pursuant to section 10(a)(1)(A) of the Act, encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in 50 CFR 17.22(c) and 17.32(c). These permits allow any necessary future incidental take of covered species above the mutually agreed upon baseline conditions for those species in accordance with the terms and conditions of the permits and accompanying agreements.

This Agreement was developed by members of the California Rangeland Conservation Coalition (CRCC), including the Applicant, the Service, the California Department of Fish and Game, the Natural Resources Conservation Service, the California Farm Bureau Federation, Environmental Defense Fund, Defenders of Wildlife, and Sustainable Conservation. In addition, the CRCC met with recognized species experts and private cattle ranchers in development of the Agreement. The Agreement is expected to promote the recovery of the Covered Species on non-Federal properties within Butte, Glenn, Tehama, and Shasta Counties. The proposed duration of the Agreement and the associated Enhancement of Survival permit are 50 years.

The Agreement was also prepared in conjunction with the California Department of Fish and Game's Voluntary Local Program, which is roughly equivalent to the Federal Safe Harbor Program. The California Department of Fish and Game will cover a variety of State-listed species through this joint-Agreement.

The proposed Enhancement of Survival permit would authorize the incidental taking of the Covered Species associated with: the restoration, enhancement, and maintenance of suitable habitat for the Covered Species; routine activities associated with rangeland and some agricultural lands management; and the potential future return of any property included in the Agreement to baseline conditions. Under this Agreement, individual landowners (Cooperators) may include their properties by entering into a Cooperative Agreement with the Applicant. Each Cooperative Agreement will specify the restoration and/or enhancement, and management activities to be carried out on that specific property and a timetable for implementing those activities. All Cooperative Agreements will be reviewed by the Service to determine whether the proposed activities will result in a net conservation benefit for the Covered Species and meet all required standards of the Safe Harbor Policy (64 FR 32717). Upon Service approval, the Applicant will issue a Certificate of Inclusion to the Cooperator. Each Certificate of Inclusion will extend the incidental take coverage conferred by the Enhancement of Survival permit to the Cooperator. Certificates of Inclusion will be valid for a period of 10 years and are renewable during the 50-year term of the Enhancement of Survival permit. Specific determinations for which species will be covered under each Cooperative Agreement will be determined by the Service on a case by case basis and will depend on the type of habitat present and the restoration and/or enhancement activities that will be implemented by the Cooperator.

Baseline levels for the Covered Species will be determined by completing the Baseline Habitat Worksheet (Attachment 4 of the Agreement), which will be completed by a person approved by the Service. The Service will review each baseline determination prior to the Applicant issuing a Certificate of Inclusion to the Cooperator. The Agreement also contains a monitoring component that requires the Applicant to ensure that the Cooperators are in compliance with the terms and conditions of the Agreement and maintaining baseline levels of habitat for the Covered Species. Results of these monitoring efforts will be provided to the Service by the Applicant in an annual report.

Upon approval of this Agreement, and consistent with the Service's Safe Harbor Policy (64 FR 32717), the Service would issue an Enhancement of Survival permit to the Applicant. This permit will authorize Cooperators issued a Certificate of Inclusion to take the Covered Species incidental to the implementation of the management activities specified in the Agreement, incidental to other lawful uses of the property including normal, routine land management activities, and incidental to return to baseline conditions if desired. Although take of listed plant species is not prohibited under the Act, and therefore cannot be authorized under an enhancement of survival permit, plant species may be included on a permit in recognition of the net conservation benefit provided to them under a safe harbor agreement. An applicant would receive assurances under our “No Surprises” regulations (50 CFR 17.22(c)(5) and 17.32(c)(5)) for all species included in the Enhancement of Survival permit. In addition to meeting other criteria, actions to be performed under an Enhancement of Survival permit must not jeopardize the existence of federally listed fish, wildlife, or plants.

Public Review and Comments

The Service has made a preliminary determination that the proposed Agreement and permit application are eligible for categorical exclusion under the National Environmental Policy Act of 1969 (NEPA). We explain the basis for this determination in an Environmental Action Statement that is also available for public review.

Individuals wishing copies of the Environmental Action Statement, and/or copies of the full text of the Agreement, including a map of the proposed permit area, should contact the office and personnel listed in the ADDRESSES section above.

Before including your address, phone number, e-mail address, or other personal identifying information in your comment, you should be aware that your entire comment—including your personal identifying information—may be made publicly available at any time. While you can ask us in your comment to withhold your personal identifying information from public review, we cannot guarantee that we will be able to do so.

The Service will evaluate this permit application, associated documents, and comments submitted thereon to determine whether the permit application meets the requirements of section 10(a) of the Act and NEPA regulations. If the Service determines that the requirements are met, we will sign the proposed Agreement and issue an enhancement of survival permit under section 10(a)(1)(A) of the Act to the Applicant for take of the Covered Species incidental to otherwise lawful activities in accordance with the terms of the Agreement. The Service will not make our final decision until after the end of the 30-day comment period and will fully consider all comments received during the comment period.

The Service provides this notice pursuant to section 10(c) of the Act and pursuant to implementing regulations for NEPA (40 CFR 1506.6).

August 21, 2009.
Susan K. Moore,
Field Supervisor, Sacramento Fish and Wildlife Office, Sacramento, California.

[FR Doc. E9-20747 Filed 8-27-09; 8:45 am]

BILLING CODE 4310-55-P